DEPARTMENT OF LABOR

Office of Disability Employment Policy

[SGA 06-07]

Self-Employment for Adults and Youth With Disabilities Research and Technical Assistance; Solicitation for Cooperative Agreements

Announcement Type: New notice of Availability of Funds and Solicitation for Grant Applications (SGA) for cooperative agreements for Self-Employment for Adults and Youth with Disabilities Research and Technical Assistance.

Funding Opportunity Number: SGA 06-07.

Catalogue of Federal Domestic Assistance (CFDA) Number: 17.720.

Executive Summary: The U.S. Department of Labor (“DOL” or “Department”), Office of Disability Employment Policy (“ODEP”), announces the availability of up to $5,000,000 to fund both a national technical assistance and research cooperative agreement, and multiple cooperative agreements for sub-national research and technical assistance pilot projects to investigate, develop and validate systems models likely to increase self-employment opportunities for people with disabilities.

• The national technical assistance and research cooperative agreement award will be funded for up to $1.5 million for a 36 month period of performance.

• The sub-national research and technical assistance pilot cooperative agreement award(s) will be funded for a total of up to $3.5 million. Awards may range from $800,000-1,200,000, with an average of $1 million for a 36 month period of performance.

ODEP'S unique mission is to provide national leadership by developing and influencing disability-related employment policy and practice affecting the employment of people with disabilities. Congress designated these monies to ODEP to further the development of self-employment policy for individuals with disabilities. A critical element of this endeavor will be the generation of data and information to validate systems capacity-building strategies and systems change models for successfully increasing self-employment opportunities for individuals with disabilities, to document the systems-related difficulties and challenges that may be encountered, and to develop and test mechanisms for addressing these challenges. This data, obtained as a result of research and technical assistance efforts, will be used by ODEP and other stakeholders in developing policy recommendations across multiple public and private systems for increased self-employment options as an alternative to more traditional types of employment.

DATES: Key Date: Applications must be received by July 3, 2006.

ADDRESSES: Applications must be mailed or hand-delivered to: U.S. Department of Labor, Procurement Services Center, Attention: Cassandra Mitchell, Reference SGA 06-07, Room N5416, 200 Constitution Avenue, NW., Washington, DC 20210.

SUPPLEMENTARY INFORMATION: This notice contains all of the necessary information and forms needed to apply for the ODEP cooperative agreements described below. Additional forms can be obtained from the following Web site address: http://www.whitehouse.gov/OMB/grants/forms.html

Solicitation Information Conference Call: A Solicitation Information Conference Call will be held at 2 p.m. (ET), Wednesday, June 1, 2006. The purpose of this conference call is to provide interested parties an overview of this Cooperative Agreement program and an opportunity to ask questions concerning the solicitation. A transcript of the conference will be made available on the ODEP Web site, http://www.dol.gov/odep shortly following the conference. Individuals who wish to participate in this conference call must register by contacting ODEP at 202-693-7880, no later than 4:45 p.m. (ET) on Friday, May 26, 2006. Please ask to register for the Self Employment SGA Conference Call. Registrations should be made as soon as possible. At the time of registration, call-in information will be provided.

I. Funding Opportunity Description and Authority

A. Description and Purpose

ODEP envisions two forms of research and technical assistance. ODEP will award multiple cooperative agreements to conduct research that will document and analyze existing agencies, policies and practices available to assist people with disabilities in starting and operating small businesses; identify, demonstrate, and evaluate innovative models across public and private systems for supporting self-employment for people with disabilities; assist relevant entities to implement effective and accessible practices for achieving self-employment outcomes of people with disabilities; and inform development of policies that expand access to such practices nationally.

Priority 1: National Self Employment Technical Assistance and Research Initiative

ODEP intends to award one national research and technical assistance cooperative agreement for approximately $1.5 million for a period of performance of 36 months.

This priority supports creation of a cooperative agreement to accomplish three tasks:

(1) Provide direct technical assistance to the ODEP grantees described in Priority 2;

(2) Provide technical assistance, training, dissemination and informational services to a broad constituency that will include state and local workforce development entities, including but not limited to, State Job Training Institutions, WIA One Stops, SBA Small Business Development Centers, the Vocational Rehabilitation and Employment Agencies of the Department of Veterans Affairs, State, and Tribal Vocational Rehabilitation Agencies to implement effective and accessible practices for achieving self-employment outcomes; and

(3) Identify and analyze the effects of existing programs on entrepreneurship by people with disabilities.

Task 1: Task 1 consists of providing assistance to grantees funded under Priority 2 of this solicitation based on the identified needs of each project. Assistance provided under this task will use strategies and information generated in Tasks 2 and 3 and additional assistance appropriate to the needs of the grantee, including site specific assistance.

Task 2: This task will focus on developing and implementing a comprehensive strategy for increasing the capacity of existing systems for providing self-employment services to people with disabilities through training, technical assistance, research, and identification and dissemination of successful and recommended practices . This will include outreach to potential entrepreneurs with disabilities and to potential financial and lending institutions. Included in the training and technical assistance will be innovative strategies for fostering self-employment for individuals with disabilities and guidance about forming partnerships among agencies that have complementary expertise and resources. In addition, this task will establish sustainable resources for continued capacity building beyond the period of performance of the cooperative agreement.

Task 3: Task 3 will be nationwide research and analysis of current resources and supports available to persons with disabilities for pursuit of entrepreneurship, and as Congress directed, “to undertake a thorough analysis of the structures currently in place that either promote or impede the expansion of business ownership in the disability community.” Specifically, this research will:

(a) Document existing public and private programs or activities that have the authority or responsibility for developing and supporting entrepreneurs with or without disabilities in starting, financing and managing a small business;

(b) Analyze the abilities and limitations of these resources for serving people with disabilities; and

(c) Develop recommendations for modifying or developing policies for reducing impediments and increasing the capacity of the resources, individually or collaboratively, to respond to the entrepreneurial training, financing and support needs of people with disabilities.

Applicants will build in methods for evaluating the effects of their technical assistance, and develop criteria for identifying promising practices and mechanisms for documenting and analyzing policy related information. To the extent that surveys are included in the final research design, the grantee will be responsible for designing those surveys in conjunction with ODEP and working with ODEP to develop an OMB clearance package and ensuring appropriate clearances. Surveys may be mixed mode (mail, internet and phone) and should be designed to achieve an overall response rate of at least 80%.

Priority 2: Sub-National Projects of Systemic Innovation and Technical Assistance

ODEP intends to award multiple cooperative agreements for projects of systemic innovation. ODEP anticipates awards will be in the range of $800,000-1,200,000, with an average of $1 million, for a 36 month period of performance. However, this does not preclude funding decisions above or below this amount, or funding a smaller or larger number of projects, based on the number and quality of submissions.

Under this priority, ODEP intends to fund multiple projects that will research, test and evaluate innovative models of self-employment service delivery that can be adopted across the country. In addition, these projects will provide sub-national technical assistance (separate from and unrelated to Priority 1 technical assistance) supportive of their individual research efforts within a political or economic jurisdiction, such as a state, metropolitan area, rural district or economic development zone, proposed by the Awardee. These jurisdictions will be chosen on characteristics established by the applicants but including the presence of numerous public and private programs, including but not limited to, State Job Training Institutions, WIA One-Stops, SBA Small Business Development Centers, the Vocational Rehabilitation and Employment Agencies of the Department of Veterans Affairs, and State, and Tribal Vocational Rehabilitation Agencies, capable of supporting potential entrepreneurs with disabilities. The awardees will be expected to research, test and evaluate innovative systems models that will increase self-employment opportunities for entrepreneurs who represent a range of disabilities, ages and life circumstances.

Critical components of this priority will include:

(a) Detailed resource mapping of the selected jurisdiction, documenting existing public and private programs or activities in the local area of the project that have the authority or responsibility for developing and supporting entrepreneurs with or without disabilities in starting, financing and managing a small business;

(b) Analyzing the abilities and limitations of these existing resources for serving people with disabilities;

(c) Developing recommendations and providing technical assistance for modifying or developing policies for reducing impediments and increasing the capacity of the resources, individually or collaboratively, to respond to the entrepreneurial training, financing and support needs of people with disabilities; and

(d) Developing, testing, evaluating, and disseminating innovative models within the area of jurisdiction of the proposed project.

The resultant resource mapping, policy analysis, and innovative systems model development must address the needs of adults, youth, veterans and older workers with disabilities (including those with significant physical, mental health and cognitive disabilities) who desire entrepreneurship. It must also include generic programs available to all potential entrepreneurs as well as those targeted specifically to people with disabilities, and a review of relevant regulations, policies, practices and funding mechanisms. Any differences between rural and urban entrepreneurship must be addressed.

Outcomes for this priority will be quantitative and qualitative documentation of the model(s), including:

(a) Strengths and weaknesses for assisting people with disabilities;

(b) Recommendations for informing policy development and addressing barriers and facilitators to achieving desired results; and

(c) Identification and dissemination through technical assistance of promising and successful practices.

This information will be used by ODEP, in concert with other Federal agencies, to develop and implement an action plan to promote self-employment and small business development among youth and adults with disabilities, particularly those with the most significant disabilities.

B. Background

Congress provided $5,000,000 in the FY 2006 appropriation for ODEP to conduct a national initiative to develop research-based policy and provide technical assistance to related systems in implementing effective and accessible practices for achieving sustainable self-employment outcomes for individuals with disabilities. (See Departments of Labor, Health and Human Services, and Education, and Related Agencies Appropriations Act, 2006, Public Law 109-149, Title I, 119 Stat. 2833, 2841 (2005); H.R. Conf. Rep. No. 109-300, at 59 (2005); S. Rep. No. 109-103, at 26 (2005)). Through this initiative, ODEP intends to increase the knowledge base of existing practices for serving the self-employment training and financing needs of individuals with disabilities, and to identify, investigate and validate systems models likely to increase self-employment opportunities for people with disabilities.

The Office of Disability Employment Policy (ODEP) provides national leadership by developing and influencing disability-related employment policies and practices. A five-year strategic plan guides ODEP in achieving its mission by identifying long-term strategic and outcome goals as well as shorter-term intermediate and performance goals. In addition to measuring agency performance, as required by the Government Performance and Results Act (GPRA), the strategic plan sets forth a road map for prioritizing the formulation and dissemination of innovative employment policies and practices to service delivery systems and employers.

ODEP's annual goal is to build knowledge and advance disability employment policy that affects and promotes systems change. The agency's long- and short-term goals focus efforts on initiatives that bring about this level of change. In short, ODEP develops policies and strategies that will:

• Enhance the capacity of service delivery systems to provide appropriate and effective services and supports to youth and adults with disabilities;

• Increase planning and coordination within service delivery systems to develop and improve systems, processes, and services;

• Improve individualization of services to better assist youth and adults with disabilities in seeking, obtaining, and retaining employment or self-employment;

• Increase employer access to supports and services to meet their employment needs;

• Increase the quality of competency-based training for service delivery systems;

• Increase the adoption of universal strategies for service provision; and

• Develop partnerships with and among critical stakeholders to effectively leverage available resources and facilitate implementation of practices and policies that increase employment and self-employment opportunities and the recruitment, retention, and promotion of youth and adults with disabilities.

Three measures inform ODEP's annual progress: The number of policy-related documents; the number of formal agreements; and the number of effective practices. These performance results support achievement of the following intermediate outcome goals: Accessible employment resources; coordinated programs, processes, and services; and adoption of effective practices.

Achievement of these intermediate outcome goals, in turn, supports achievement of the long-term service delivery systems outcome goals, which are marked by increases in these areas: Capacity of service delivery systems; planning and coordination within service delivery systems; and employer access to supports and services for recruitment, retention, and promotion.

ODEP is committed to supporting and encouraging the creative use of alternative employment strategies, such as self-employment, through appropriate skills development, entrepreneurial education, training opportunities, access to funding and necessary supports, and capacity building within systems to ensure availability of self employment outcomes for individuals with disabilities.

People with disabilities who choose entrepreneurship as their path to financial independence have historically been underserved both by the agencies that specifically serve people with disabilities and those that serve potential entrepreneurs who are members of the general public. While facing the same obstacles as entrepreneurs who do not have disabilities, entrepreneurs with disabilities must resolve additional issues that result from their disabilities.

Government programs and private agencies have begun a groundswell of support for encouraging people with disabilities to consider entrepreneurship as a career option and for providing the technical and financial assistance they need. The most recent amendments to the Rehabilitation Act of 1973 (Title V of the Workforce Investment Act of 1998) reemphasize the use of self-employment or small business ownership as legitimate employment outcomes for vocational rehabilitation clients. The Social Security Administration (SSA), which under the new Ticket to Work Program has begun issuing “tickets” to beneficiaries and recipients of its cash benefit programs, has included the support of an individual's entrepreneurial goals as a possible use of the ticket. SSA's PASS (Plans for Achieving Self-Support) program provides a way for SSI (Supplemental Security Income) recipients to accumulate funds necessary for business start-ups and operation without jeopardizing the individual's cash benefits or health care coverage. Across the Federal government, personal budget and asset-building programs such as Individual Development Accounts, economic development programs and housing programs are creating new opportunities for entrepreneurs with disabilities. ODEP's Customized Employment and WorkFORCE (Working for Freedom, Opportunity and Real Choice Through Community Employment) Action grant initiatives are demonstrating the feasibility of self-employment as an option for individuals with significant disabilities who were previously considered by some systems to be unemployable.

Across the country, private and public programs are successfully assisting people with disabilities to become competitive members of the small business community. Small business development centers and microenterprise agencies have begun to open their doors to people with disabilities. Innovative customized approaches to entrepreneurship such as supported self-employment, use of cooperatives and development of micro-boards show great potential but are little understood. Available strategies to assist individuals with disabilities to develop assets to further self-employment appear to be underutilized. Strategies for leveraging resources across multiple systems are impeded by funding restrictions and bureaucratic inertia.

Numerous Federal agencies and private entities are potential resources for individuals with disabilities, such as education agencies, state job training institutions, Workforce Investment Act One-Stop Career Centers, Small Business Administration-sponsored Small Business Development Centers, the vocational rehabilitation and employment services of the Departments of Veterans Affairs, and State and tribal vocational rehabilitation agencies, and other related programs. Agencies that serve the employment needs of youth and adults with disabilities, however, regularly report that their staff members are not knowledgeable about small business procedures or resources. At the same time, organizations that support small business development report a lack of knowledge about how to serve people with disabilities or what resources might be available to help those individuals. Very little research on people with disabilities and self-employment exists, leaving many questions unanswered for policy makers.

ODEP recognizes that creating successful self-employment models for people with disabilities may necessitate changes to the systems in place for promoting small business ownership or for responding to the complex needs of individuals with disabilities. Information from ODEP grant initiatives has identified the following critical elements for achieving enduring systems change:

(1) Increase the capacity of system elements to achieve a goal through staff training, modifications to policies and practices, and improved facility accessibility;

(2) Increase the coordination and collaboration between multiple agencies to maximize the use and effectiveness of services and financial resources;

(3) Customize services to better fulfill the unique needs of each individual;

(4) Implement and evaluate new and different practices;

(5) Disseminate information regarding successful changes and lessons learned to others who might benefit; and

(6) Ensure that successful changes are institutionalized so that they will endure.

C. Definitions

Definitions for purposes of this solicitation include:

• “Self-employment” means work by a person who owns or operates a trade, business or profession, either by themselves or with other owners.

• “Youth with disabilities” refers to individuals who are ages 14 to 24.

• “Significant disability” is defined as an individual with a disability who is receiving Social Security or Supplemental Security Income disability benefits.

II. Award Information

Estimated Available Funds: $5,000,000.

Priority I: One Award: up to $1,500,000.

Priority II: Multiple Awards: range from $800,000—$1,200,000 (Average size of awards approximately $1,000,000).

Period of Performance: 36 months from date of award.

The U.S. Department of Labor (“DOL” or “Department”), Office of Disability Employment Policy (“ODEP”), announces the availability of up to $5,000,000 to fund :

(1) A national technical assistance and research cooperative agreement, and

(2) Multiple sub-national cooperative agreements for research and technical assistance pilot projects to identify, investigate and validate innovative systems models likely to increase self-employment opportunities for people with disabilities.

Note: Selection of an organization as a Grantee does not constitute approval of the grant application as submitted. Before the actual grant is awarded, USDOL may enter into negotiations about such items as program components, staffing and funding levels, and administrative systems in place to support grant implementation. If the negotiations do not result in a mutually acceptable submission, the Grant Officer reserves the right to terminate the negotiation and decline to fund the application.

Because ODEP plans to make awards in the form of a cooperative agreement, USDOL will have substantial involvement in the administration of the agreement. Such USDOL involvement will consist of:

(1) Approval of any sub-contract awarded by the grantee(s);

(2) Participation in site visits to project areas;

(3) Providing advice and consultation to the Grantee(s) on specific program criteria;

(4) Providing the Grantee(s) with technical and programmatic support, including training in USDOL monitoring and evaluation systems, and standard procedures regarding USDOL management of cooperative agreements;

(5) Reviewing, at reasonable times, all documents pertaining to the project, including status and technical progress reports, and financial reports;

(6) Discussing administrative and technical issues pertaining to the project;

(7) Approving all key personnel decisions, and sub-contractors or sub-recipients;

(8) Approving all press releases and publicity materials regarding the project;

(9) Approving all content for online resources developed through project activities, including clearing concepts for material production and final document production; and

(10) Drafting terms of reference for, and participating in project evaluations.

III. Eligibility Information

1. Eligible Applicants

Applications for Priority 1 will be accepted from both for profit and not-for-profit entities or from consortia of such entities, which include but are not limited to, institutions of higher education (including state institutions) and faith-based and community organizations, all of whom have demonstrated national experience in:

(a) Employment, self-employment and disability research and demonstration activities;

(b) Providing technical assistance on a range of topics necessary to achieve self-employment for people with disabilities; and

(c) Demonstrated knowledge of and technical assistance experience working with state or local systems to promote systems change; and

In accordance with the supporting legislative language for this effort which states:

“The Committee directs that, in making the national technical assistance grant, priority be given to national non-profits with experience in delivering direct consumer services as well as training to public and private agencies,” an additional five (5) evaluation points will be given to such lead applicants. For further information, see Part V, Application Review Information, Item 1. Evaluation Criteria.”

If the applicant is a consortium, the lead for profit or non-profit entity will be the recipient of the award and must be the responsible financial and administrative entity for the Cooperative Agreement should that application result in an award.

Applications for Priority 2 will be accepted from consortia led by state or local government agencies. The consortium members may include public and private entities, which may include but are not limited to non-profit organizations, institutions of higher education, and faith-based and community organizations. The lead government agency will be the recipient of the award and must be the responsible financial and administrative entity for the Cooperative Agreement should that application result in an award.

According to section 18 of the Lobbying Disclosure Act of 1995, an organization, as described in section 501(c)(4) of the Internal Revenue Code of 1986, that engages in lobbying activities will not be eligible for the receipt of Federal funds constituting an award, grant, or loan. See 2 U.S.C. 1611; 26 U.S.C. 501(c) (4). Funding restrictions apply. See Section IV (5).

2. Cost Sharing

Cost sharing, matching funds, and cost participation are not required under this SGA. However, leveraging of public and private resources to achieve project sustainability is highly encouraged and included under evaluation criteria B.

3. Other Eligibility Requirements

Legal rules pertaining to inherently religious activities by organizations that receive Federal Financial Assistance:

Neutral, non-religious criteria that neither favor nor disfavor religion will be employed in the selection of grant recipients and must be employed by grantees or in the selection of sub-recipients.

The government is generally prohibited from providing direct financial assistance for inherently religious activities.¹ These grants may not be used for religious instruction, worship, prayer, proselytizing or other inherently religious activities. Neutral, non-religious criteria that neither favor nor disfavor religion must be employed in the selection of grant recipients and sub-recipients.

¹ In this context, the term direct financial assistance means financial assistance that is provided directly by a government entity or an intermediate organization, as opposed to financial assistance that an organization receives as the result of the genuine and independent private choice of a beneficiary. In other contexts, the term “direct” financial assistance may be used to refer to financial assistance that an organization receives directly from the Federal government (also known as “discretionary” assistance), as opposed to assistance that it receives from a State or local government (also known as “indirect” or “block” grant assistance). The term “direct” has the former meaning throughout this SGA.

IV. Application and Submission Information

1. Addresses To Request Application Package

This SGA contains all the information and forms needed to apply for this grant funding. Application announcements or forms will not be mailed. The Federal Register may be obtained from your nearest government office or library. In addition, a copy of this notice and the application requirements may be downloaded from ODEP's Web site at http://www.dol.gov/odep and at http://www.grants.gov. If additional copies of the standard forms are needed, they can also be downloaded from: http://www.whitehouse.gov/omb/grants/grants_forms.html.

2. Content and Form of Application Submission

General Requirements: Applicants must submit one (1) paper copy with an original signature, and two (2) additional paper copies of the signed proposal. To aid with the review of applications, DOL also requests applicants to submit an electronic copy of their proposal's Sections II (Executive Summary) and III (Project Narrative) on disc or Compact Disc (CD) using Microsoft Word. The application (not to exceed 50 pages for Section III), must be double-spaced with standard one-inch margins (top, bottom, and sides) on 8½ x 11-inch paper, and must be presented on single-sided and numbered pages. A font size of at least twelve (12) pitch is required throughout. All text in the application narrative, including titles, headings, footnotes, quotations, and captions must be double-spaced (no more than three lines per vertical inch); and, if using a proportional computer font, must be in at least a 12-point font, and must have an average character density no greater than 18 characters per inch (if using a non-proportional font or a typewriter, must not be more than 12 characters per inch). Applications that fail to meet these requirements will be considered non-responsive.

Cooperative Agreement Mandatory Application Requirements

The three required sections of the application are titled below and described thereafter:

Section I—Project Financial Plan (No page limit).

Section II—Executive Summary—Project Synopsis (Not to exceed two (2) pages).

Section III—Project Narrative (Not to exceed 50 pages).

The mandatory requirements for each section are set forth below. Applications that fail to meet the stated mandatory requirements for each section will be considered non-responsive.

Section I. Project Financial Plan (Budget): The Project Financial Plan will not count against the application page limits. Section I of the application must include the following three required parts:

(1) Completed “SF-424—Application for Federal Assistance.” Please note that, beginning October 1, 2003, all applicants for federal grant and funding opportunities are required to include a Dun and Bradstreet (DUNS) number with their application. See OMB Notice of Final Policy Issuance, 68 Fed. Reg. 38402 (June 27, 2003). The DUNS number is a nine-digit identification number that uniquely identifies business entities. There is no charge for obtaining a DUNS number (although it may take 14-30 days). To obtain a DUNS number, access the following Web site: http://www.dunandbradstreet.com or call 1-866-705-5711. Requests for exemption from the DUNS number requirement must be made to OMB. The Dun and Bradstreet Number of the applicant should be entered in the “Organizational Unit” section of block 5 of the SF 424. (See Appendix A of this SGA for required form).

(2) Completed SF-424 A—Budget Information Form by line item for all costs required to implement the project design effectively. (See Appendix B of this SGA for required forms).

(3) DOL Budget Narrative and Justification that provides sufficient information to support the reasonableness of the costs included in the budget in relation to the service strategy and planned outcomes, including continuous improvement activities.

The SF-424 must contain the original signatures of the legal entity applying for Cooperative Agreement funding and two additional copies. The individual signing the SF-424 on behalf of the applicant must represent and be able to legally bind the responsible financial and administrative entity for a Cooperative Agreement should that application result in an award. Applicants shall indicate on the SF-424 the organization's Internal Revenue Service (IRS) status (e.g., 501(c)(3) organization), if applicable.

The DOL Budget Narrative and Justification must describe all costs associated with implementing the project that are to be covered with Cooperative Agreement funds. The budget must support the travel and associated costs of sending at least one representative to periodic meetings with DOL staff in Washington, DC (at least once per quarter), at a time and place to be determined. In addition to other administrative requirements identified in section VI (2) of this SGA, the applicant must comply with the “Uniform Administrative Requirements for Grants and Cooperative Agreements to State and Local Governments' (also known as OMB Circular A-102), codified at 29 CFR part 97, or “Grants and Agreements with Institutions of Higher Education, Hospitals, and Other Non-Profit Organizations” (also known as the “Common Rule” or OMB Circular A-110), codified at 2 CFR part 215 and 29 CFR part 95.

In addition, the budget submitted for review by DOL must include, on a separate page, a detailed cost analysis of each line item. The costs listed in the detailed cost analysis must comply with the applicable OMB cost principles circulars, as identified in 29 CFR 95.27 and 29 CFR 97.22(b). Justification for administrative costs must be provided. Approval of a budget by DOL is not the same as the approval of actual costs. The applicant must also include the Assurances and Certifications Signature Page (Appendix C) and the Survey on Ensuring Equal Opportunity for Applicants (Appendix D).

Section II. Executive Summary—Project Synopsis: The Executive Summary is limited to no more than two single-spaced, single-sided pages on 8½ x 11-inch paper with standard margins throughout. The project synopsis must identify the following:

(1) The lead entity;

(2) The planned period of performance;

(3) The list of consortium members, as appropriate; and

(4) An overview of how the applicant will conduct the research, analyze the data, and present the findings associated with the priority targeted by their application.

Section III. Project Narrative: The DOL Cooperative Agreement Project Narrative is limited to no more than fifty (50), 8½ x 11 pages, double-spaced with standard one-inch margins (top, bottom, and sides), and must be presented on single-sided, numbered pages.

Note: Any Appendices, including letters of cooperation, resumes, etc., are not included in this fifty-page limit.

Successful applicants will develop and describe in their Project Narrative innovative and comprehensive plans for accomplishing the tasks described for Priority 1 and Priority 2 as detailed below. Direction for all applicants is included thereafter.

1. Priority 1 applicants: Applications for Priority 1 must include:

a. Documentation (such as letters of intent and memorandum of agreement from proposed consortium members, consultants and other key entities) which reflects that each entity or individual is committed to participating and working cooperatively with the applicant, shall be included in the Appendix;

b. A description of the procedures and approaches the applicant will use to identify and respond to the technical assistance and training needs of the entity(ies) providing services to potential entrepreneurs with disabilities;

c. A description of the procedures and approaches that will be used to ensure that the target agencies receive the assistance that provides them with the specific skills and information needed for serving people with disabilities and accomplishing the goals of the proposed project;

d. A detailed description of how the applicant will document and analyze existing self-employment related programs;

e. A description of the methods used to ensure that the elements of the project's technical assistance model will be sustained following the completion of project activities; and

f. A detailed description of procedures and materials that will enable others to adopt the successful models developed.

2. Priority 2 applicants: Applications for Priority 2 must include:

a. Documentation (such as letters of intent and memorandum of agreement from relevant state and local public and private agencies and entities, consultants and other key entities) which reflects that each agency and entity to be included in the demonstration project is committed to participating and working cooperatively with the applicant, shall be included in the Appendix;

b. A description of the procedures and approaches that will be used to identify and evaluate systems models that integrate services for people with disabilities into the existing infrastructure of any organizations currently providing self-employment training or financing within the jurisdiction of the project;

c. A description of the self-employment systems models to be tested and evaluated for effectiveness, including whether they ensure customer choice and self-direction of funds;

d. A description of the criteria and methods to be used to select the project's political or economic jurisdiction;

e. A description of the methods to be used to ensure that the elements of the project's system model will be sustained following the completion of project activities; and

f. A detailed description of procedures and materials that will enable others to adopt the successful models developed through technical assistance and other means.

3. All applicants: a. Must describe the methods and procedures for collecting, analyzing, and reporting data from the evaluation of the project;

b. Must describe the procedures and approaches for working with multiple Federal, state and local public and private agencies to implement the various policy recommendations and strategies proposed in relation to the specific situation in each agency;

c. May apply for an award in each priority category, but a separate application must be submitted for each priority, and for each separate jurisdiction under Priority 2. Awards will be made independently for each of the priorities described in this SGA; and

d. Must include:

(1) A detailed 36-month management plan for project goals, objectives, and activities;

(2) A detailed 36-month timeline for project activities including producing and submitting a final report;

(3) A detailed outline for an evaluation research design (see Section V (1) (F) for more information);

(4) A description of procedures and approaches that will be used to provide ongoing communication and collaboration with, and input from ODEP's Project Officer on all grant-related activities;

(5) A description of how performance feedback and continuous improvement are integral to the design of the project; and

(6) Information on proposed staffing consistent with the requirements below.

The Project Narrative must describe the proposed staffing of the project, including consultants, and must identify and summarize the qualifications of the personnel who will carry it out as well as time commitments of all staff and consultants. For each staff person named in the application, please provide documentation of all internal and external time commitments. In instances where a staff person is committed on a Federally supported project, please provide the project name, Federal office, program title, the project Federal award number, and the amount of committed time by each project year. This information (e.g., Staff: Jane Doe; Project Name: Succeeding in the General Curriculum; Federal office: Office of Special Education Programs; Program title: Field Initiated Research; Award number: H324C980624; Time commitments: Year 1—30%; Year 2—25% and Year 3—40%) can be provided as an Appendix to the application.

In general, ODEP will not reduce time commitments on currently funded grants from the time proposed in the original application. Therefore, ODEP will not consider for funding any application where key staff are bid above a time commitment level that staff have available to bid. Further, the time commitments stated in newly submitted applications will not be negotiated down to permit the applicant to receive a new grant award.

The Project Narrative should also describe how the applicant plans to comply with the employment discrimination and equal employment opportunity requirements of the various laws listed in the assurances section.

In addition, the evaluation criteria listed in Section V (1) include consideration of the qualifications, including relevant education, training and experience, of key project personnel as well as the qualifications, including relevant training and experience, of project consultants or subcontractors. Resumes for all staff and consultants must be included in the Appendices.

3. Submission Dates, Times and Addresses

Applications will be accepted commencing May 19, 2006. The closing date for receipt of applications by DOL under this announcement is July 3, 2006.

Applications, including those hand-delivered, must be received by 4:45 p.m. (ET) on the closing date at the address specified below. No exceptions to the mailing and hand-delivery conditions set forth in this notice will be granted. Applications that do not meet the conditions set forth in this notice will be considered non-responsive.

Applications must be mailed or hand-delivered to: U.S. Department of Labor, Procurement Services Center, Attention: Cassandra Mitchell, Reference SGA 06-07, Room N-5416, 200 Constitution Avenue, NW., Washington, DC 20210. Applications sent by e-mail or telefascimile (FAX) applications will not be accepted.

Hand-Delivered Proposals: It is preferred that applications be mailed at least five (5) days prior to the closing date to ensure timely receipt. Hand-delivered applications will be considered for funding, but must be received by the above specified date and time. Overnight or express delivery from carriers other than the U.S. Postal Service will be considered hand-delivered applications. Failure to adhere to the above instructions will serve as a basis for a determination of non-responsiveness.

Applicants are advised that mail in the Washington DC area may be delayed due to mail decontamination procedures and may wish to take this information into consideration when preparing to meet the application deadline.

Late Applications. Any application received by the designated office after the exact date and time specified will be considered non-responsive, unless it is received before awards are made and it: (a) Is determined that its late receipt was caused by DOL error after timely delivery to the Department of Labor; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two (2) working days prior to the date specified for receipt of applications. The term “working days” excludes weekends and Federal holidays. “Postmarked” means a printed, stamped, or otherwise placed impression (exclusive of a postage meter machine impression) that is readily identifiable without further action as having been supplied or affixed on the date of mailing by an employee of the U.S. Postal Service.

Withdrawal of Applications: An application that is timely submitted may be withdrawn by written notice or telegram (including mailgram) at any time before an award is made. Applications may be withdrawn in person by the applicant or by an authorized representative thereof, if the representative's identity is made known and the representative signs a receipt for the proposal.

4. Intergovernmental Review

This funding opportunity is not subject to Executive Order 12372, “Intergovernmental Review of Federal Programs.”

5. Funding Restrictions

(a) Funding Levels: The total funding available for this solicitation is $5,000,000. The Department of Labor reserves the right to negotiate the amounts to be awarded under this competition. Please be advised that requests exceeding the maximum stated amount for each Priority in the Executive Summary section of this solicitation will be considered non-responsive. Additionally, there will be no reimbursement of pre-award costs.

(b) Period of Performance: The period of performance will be for 36 months from date of the award unless modified. It is expected that the successful applicant(s) will begin program operations under this solicitation immediately upon receiving the “Notice of Award.”

(c) Option Year Funding: Not applicable.

(d) Indirect Charges: If indirect charges are claimed in the proposed budget, the recipient must provide on a separate sheet, the following information:

(1) Name and address of cognizant Federal Audit Agency;

(2) Name, address and phone number (including area code) of the Government auditor;

(3) Documentation from the cognizant agency indicating:

(a) Current indirect cost rate and the base against which the rate should be applied;

(b) Effective period (dates) for the rate; and

(c) Date last rate was computed and negotiated;

(4) If no government audit agency computed and authorized the rate claimed, a proposed rate with justification may be submitted to provide a brief explanation of computation, who computed and the date; successful applicants will be required to negotiate an acceptable and allowable rate within 90 days of grant award with the appropriate DOL Regional Office of Cost Determination or with the applicant's cognizant agency for indirect cost rates (See Office of Management and Budget Web site at http://www.whitehouse.gov/omb/grants/attach.html). The recipient shall call the Office of Cost Determination at 202-693-4100 for the initial contact.

However, applications claiming an indirect cost rate greater than 15% will not be considered.

V. Application Review Information

1. Evaluation Criteria

A Technical Panel will review grant applications against the criteria listed below, on the basis of the maximum points indicated. “In accordance with Part III of this SGA, Eligibility Information, Item 1, entitled Eligible Applicants, sub-item (d), regarding legislative language-driven priority directions for the national technical assistance grant (i.e. Priority 1), an additional five (5) scoring points will be given to applicants who are “national non-profits with experience in delivering direct consumer services as well as training to public and private agencies”.

A. Significance of the Proposed Project (10 Points)

In determining the significance of the proposed research, the Department will consider the following factors.

For all Priority areas:

(1) The potential contribution of the proposed project to increase knowledge or understanding of problems, issues, or effective strategies for providing self-employment options to adults and youth with disabilities, including significant disabilities, as an alternative to traditional types of employment;

(2) The extent to which the proposed project is likely to yield findings that may be used by other appropriate agencies and organizations; and

(3) The likely utility of the products (such as information, materials, processes, or techniques) that will result from the proposed project, including their potential for being used effectively in a variety of other settings.

Additional Factors for Priority 2:

(1) The extent to which the proposed research identifies promising new strategies that build upon, or are alternatives to, existing strategies;

(2) The extent to which the promising practices of the proposed project are to be disseminated and shared through technical assistance in ways that will enable others to use the information or strategies;

(3) The potential replicability (national significance) of the proposed project or strategies, including, as appropriate, the potential for implementation in a variety of settings;

(4) The extent to which the proposed project is likely to build sustainable capacity in the area of jurisdiction to provide, improve or expand self-employment opportunities for individuals with disabilities; and

(5) The importance or magnitude of the results that are likely to be attained by the proposed project.

B. Project Design (25 Points)

In evaluating the quality of the proposed project design, the Department will consider the following factors.

For all Priority areas:

(1) The extent to which the goals, objectives, and outcomes to be achieved by the proposed project are clearly specified and measurable;

(2) The extent to which the proposal incorporates the key activities identified for the appropriate priority in the Project Narrative section of this SGA (section IV(2));

(3) The extent to which the proposal describes a strategic process for designing and implementing the project;

(4) The extent to which the design of the proposed project is appropriate to, and will successfully address the needs of, all people with disabilities, including adults, youth, veterans, older workers and persons with significant disabilities;

(5) The extent to which the design of the proposed project reflects a review of disability-related literature, up-to-date knowledge of research and effective practices relating to planning, financing and implementing self-employment options, an in-depth understanding of relevant economic, social, financial, institutional or other problems and the use of appropriate methodological tools to ensure successful achievement of project objectives;

(6) The extent to which the design of the proposed project can identify barriers and challenges associated with providing self-employment options to persons with disabilities;

(7) The extent to which the proposed project will effectively contribute to increased knowledge and understanding by building upon current theory, research, and best practices.

(8) The extent to which the applicant encourages involvement of people with disabilities, relevant experts, and organizations in project activities;

(9) The extent to which performance feedback and continuous improvement are integral to the design of the proposed project; and

(10) The adequacy of the documentation submitted in support of the proposed project to demonstrate the commitment of each entity or individual included in project implementation.

Additional Factors for Priority 2:

(1) The extent to which the proposed project is designed to build systemic capacity and yield results that will extend beyond the period of performance of the cooperative agreement;

(2) The extent to which the design of the proposed project utilizes cutting-edge strategies for promoting personal choice and control in the development of self-employment options; and

(3) The extent to which the proposed project leverages a combination of public and private resources for purposes of sustainability and provides other concrete evidence of sustainability, including appropriate letters of support included in the Appendices.

C. Organizational Capacity and Quality of Key Personnel (25 points)

Applications will be evaluated based on the extent to which the applicant demonstrates organizational capacity and quality of key personnel to implement the proposed project, including:

(1) Demonstrated experience with similar projects in employment or self-employment and related areas for the appropriate Priority area, as well as in providing services related to self-employment for people with disabilities;

(2) Experience with the target population;

(3) Qualifications and experience of the applicant's key personnel and consultants;

(4) Commitment to developing and sustaining work across key stakeholders;

(5) Experience and commitment of any proposed consultants or subcontractors; and

(6) Appropriateness of the organization's structure to carry out the project.

D. Budget and Resource Capacity (10 points)

In evaluating the capacity of the applicant to carry out the proposed project, ODEP will consider the following factors:

(1) The extent to which the budget is adequate to support the proposed project; and

(2) The extent to which the anticipated costs are reasonable in relation to the objectives, design, and potential significance of the proposed project.

E. Quality of the Management Plan (15 points)

In evaluating the quality of the management plan for the proposed project, ODEP will consider the following factors:

(1) The extent to which the management plan for project implementation appears likely to achieve the objectives of the proposed project on time and within budget, and includes clearly defined staff responsibilities, time allocation to project activities, time lines, milestones for accomplishing project tasks, project deliverables and information on adequacy of other resources necessary for project implementation;

(2) The extent to which the management plan appears likely to result in sustaining activities beyond the period of direct federal investment;

(3) The adequacy of mechanisms for ensuring high-quality products and services relating to the scope of work for the proposed project; and

(4) The extent to which the time commitments of the project director and/or principal investigator and other key project personnel are appropriate and adequate to meet the objectives of the proposed project.

F. Quality of the Project Evaluation (15 points)

In evaluating the quality of the project's evaluation design, ODEP will consider the following factors:

(1) The extent to which the methods of evaluation are thorough, feasible, and appropriate to the goals, objectives, context, and outcomes of the proposed project;

(2) The extent to which the design of the evaluation includes the use of objective performance measures and methods that will clearly document the project's intended outputs and outcomes and will produce quantitative and qualitative data;

(3) The extent to which the evaluation will include methods to validate self-employment strategies and document systems change models in order to provide information to the Federal government and other entities about effective self-employment and systems change strategies suitable for replication or testing in other settings; and

(4) The extent to which the methods of evaluation provide measures that will inform ODEP's annual performance goals and measures and ODEP's long-term strategic goals.

2. Review and Selection Process

A technical review panel will objectively rate each complete application against the criteria described in this SGA for the appropriate priority as identified in the application. Each application will only be rated for one of the priorities. Multiple applications must be submitted if an applicant seeks funding under more than one priority. The panel recommendations to the Grant Officer, including any point scores, are advisory in nature. The Grant Officer may elect to award grants either with or without discussion with the applicant. In situations where no discussion occurs, an award will be based on the signed SF-424 form (see Appendix A), which constitutes a binding offer.

The Grant Officer may consider the availability of funds and any information that is available and will make final award decisions based on what is most advantageous to the government, considering factors such as: The advisory recommendations from the grant technical evaluation panel, and the geographic distribution of Federally funded grants.

3. Anticipated Announcement and Award Dates

Announcement of this award is expected to occur within 30 days of award. The cooperative agreement will be awarded by no later than September 30, 2006.

VI. Award Administration Information

1. Award Notices

The Notice of Award signed by the Grant Officer is the authorizing document and will be provided through postal mail and/or by electronic means to the authorized representative listed on the SF-424 Grant Application. Notice that an organization has been selected as a grant recipient does not constitute final approval of the grant application as submitted. Before the actual grant award, the Grant Officer and/or the Grant Officer's Technical Representative may enter into negotiations concerning such items as program components, funding levels, and administrative systems. If the negotiations do not result in an acceptable submittal, the Grant Officer reserves the right to terminate the negotiation and decline to fund the proposal.

2. Administrative and National Policy Requirements

All grantees, including faith-based organizations, will be subject to applicable Federal laws (including provisions of appropriations law), regulations, and the applicable Office of Management and Budget (OMB) Circulars. The grant(s) awarded under this SGA will be subject to the following administrative standards and provisions, and requirements applicable to particular entities. The applicant must include assurances and certifications that it will comply with these laws in its grant application. The assurances and certifications are attached as Appendix C.

A. Regulations

• 29 CFR parts 31 and 32—Nondiscrimination in Federally Assisted Programs of the Department of Labor (respectively, effectuation of Title VI of Civil Rights Act of 1964, and on the Basis of Handicap in Programs and Activities Receiving or Benefiting from Federal Financial Assistance).

• 29 CFR part 35—Nondiscrimination on the Basis of Age in Programs or Activities receiving Federal Financial Assistance from the Department of Labor.

• 29 CFR part 36—Nondiscrimination on the Basis of Sex in Education Programs or Activities Receiving Federal Financial Assistance.

• 29 CFR part 93—New Restrictions on Lobbying.

• 29 CFR part 95—Uniform Administrative Requirements for Grants and Agreements with Institutions of Higher Education, Hospitals and Other Non-Profit Organizations, and with Commercial Organizations, Foreign Governments, Organizations Under the Jurisdiction of Foreign Governments and International Organizations.

• 29 CFR part 96—Federal Standards for Audit of Federally Funded Grants, Contracts and Agreements.

• 29 CFR part 97—Uniform Administrative Regulations for Grants to States, Local Governments or Tribes.

• 29 CFR part 98—Federal Standards for Governmentwide Debarment and Suspension (Nonprocurement) and Governmentwide Requirements for Drug-Free Workplace (Grants).

• 29 CFR part 99—Federal Standards for Audits of States, Local Governments, and Non-Profit Organizations.

• 29 CFR part 2—General Participation in Department of Labor Programs by Faith-Based and Community Organizations; Equal Treatment of All Department of Labor Program Participants and Beneficiaries.

• Applicable cost principles under OMB Circulars A-21, A-87, A-122, or 48 CFR part 31.

B. Travel

Any travel undertaken in performance of this cooperative agreement shall be subject to and in strict accordance with Federal travel regulations.

C. Acknowledgement of USDOL Funding

Printed Materials: In all circumstances, the following shall be displayed on printed materials prepared by the grantee while in receipt of DOL grant funding: “Preparation of this item was funded by the United States Department of Labor under Grant No. [insert the appropriate Grant number].”

• All printed materials must also include the following notice: “This document does not necessarily reflect the views or policies of the U.S. Department of Labor, nor does mention of trade names, commercial products, or organizations imply endorsement by the U.S. Government.”

Public reference to grant: When issuing statements, press releases, requests for proposals, bid solicitations, and other documents describing projects or programs funded in whole or in part with Federal money, all Grantees receiving Federal funds must clearly state:

• The percentage of the total costs of the program or project, which will be financed with Federal money;

• The dollar amount of Federal financial assistance for the project or program; and

• The percentage and dollar amount of the total costs of the project or program that will be financed by non-governmental sources.

Use of USDOL Logo: In consultation with USDOL ODEP, the Grantee must acknowledge USDOL's role as described below:

• The USDOL logo may be applied to USDOL-funded material prepared for world-wide distribution, including posters, videos, pamphlets, research documents, national survey results, impact evaluations, best practice reports, and other publications of global interest. The Grantee(s) must consult with USDOL on whether the logo may be used on any such items prior to final draft or final preparation for distribution. In no event shall the USDOL logo be placed on any item until USDOL has given the Grantee written permission to use the logo on the item.

• All documents must include the following notice: “This document does not necessarily reflect the views or policies of the U.S. Department of Labor, nor does mention of trade names, commercial products, or organizations imply endorsement by the U.S. Government.”

D. Intellectual Property

Please be advised that DOL will reserve a royalty-free, nonexclusive, and irrevocable license to reproduce, publish, distribute, publicly display and perform, and create derivative works from, and to authorize others to use, for Federal Government purposes: (1) The copyright in any work developed under a grant, subgrant, or contract under a grant or subgrant; and (2) any rights of copyright to which a grantee, subgrantee or a contractor purchases ownership with grant support.

In addition, the grantee will agree to notify DOL of any pre-existing copyrighted materials it intends to incorporate into materials developed under the grant, and, prior to such incorporation, the grantee will agree that it will acquire, on behalf of DOL, any necessary licenses to allow DOL to exercise the rights described in the paragraph above.

E. Approval of Key Personnel and Subcontractors

The recipient shall notify the Grant Officer at least 14 calendar days in advance if any key personnel are to be removed or diverted from the cooperative agreement, shall supply written justification as part of this notice as to why these persons are to be removed or diverted, shall provide the names(s) of the proposed substitute or replacement, and shall include information on each new individual's qualifications such as education and work experience.

VII. Reporting and Monitoring

ODEP is responsible for ensuring effective implementation of this Cooperative Agreement, in accordance with the provisions of this announcement and the terms of the Cooperative Agreement award document. Applicants should assume that ODEP staff will conduct on-site project reviews periodically. Reviews will focus on timely project implementation, performance in meeting the Cooperative Agreement's objectives, tasks and responsibilities, expenditures of Cooperative Agreement funds on allowable activities, and administration of project activities. Projects may be subject to other additional reviews, at the discretion of the ODEP.

The selected applicant must submit on a quarterly basis, beginning ninety days from the award of the grant, financial and activity reports under this program as prescribed by OMB Circular A-110, codified at 2 CFR part 215 and 29 CFR part 95. Specifically the following reports will be required:

(a) Quarterly report: The quarterly report is estimated to take five hours to complete. The form for the Quarterly Report will be provided by ODEP. The Department will work with the grantee to help refine the requirements of the report, which, among other things, will include measures of ongoing analysis for continuous improvement. This report will be filed using an on-line reporting system. The form will be submitted within 30 days of the close of the quarter.

(b) Standard Form 269: Financial Status Report Form: This form is to be completed and submitted on a quarterly basis using the online electronic reporting system.

(c) Final Project Report: The Final Project Report is to include an assessment of project performance and outcomes achieved. It is estimated that this report will take twenty (20) hours to complete. This report will be submitted in hard copy and on electronic disk using a format and following instructions, to be provided by the Department. A draft of the final report is due to the Department sixty (60) days before the end of the period of performance of the cooperative agreement. The final report is due to DOL ten (10) days before the end of the period of performance of the cooperative agreement.

The Department will arrange for an independent evaluation of the outcomes, impacts, accomplishments, and benefits of each funded project. All grantees must agree to cooperate with this evaluation and must make available records on all parts of project activity, including available data on employment and wages of participants in the self-employment service delivery models being studied, and provide access to personnel, as specified by the evaluator(s), under the direction of ODEP. This independent evaluation is separate from the ongoing evaluation for continuous improvement required of the grantee for project implementation.

Technical assistance efforts will be coordinated with and will complement those of ODEP's National Center on Workforce and Disability for Adults (NCWD/A), as well as ODEP's other technical assistance efforts, including: The National Consortium on Workforce and Disability for Youth (NCWD/Y), the Job Accommodation Network (JAN), the Employer Assistance and Recruiting Network (EARN), and the Small Business and Self-Employment Service (SBSES) (a service of ODEP implemented through JAN which provides information, counseling, and referrals about self-employment and small business ownership opportunities for people with disabilities). Grantees must also agree to work with the ODEP in its various technical assistance efforts in order to freely share with others what is learned about delivering self-employment services to individuals with disabilities. Grantees must agree to collaborate with other research institutes, centers, studies, and evaluations that are supported by the DOL and other relevant Federal agencies, as appropriate. Finally, Grantees must agree to actively utilize the programs sponsored by the ODEP, including the Job Accommodation Network (http://www.jan.wvu.edu), and the Employer Assistance and Recruiting Network (http://www.earnworks.com).

Each successful applicant will be required to prepare a strategic plan for achieving the goals of the cooperative agreement during the first year of the agreement and submit it to ODEP for approval.

VIII. Agency Contacts

Any questions regarding this SGA should be directed to Cassandra Mitchell, e-mail address: mitchell.cassandra@dol.gov, tel: 202-693-4570 (note that this is NOT a toll-free number). To obtain further information about the Office of Disability Employment Policy of the U.S. Department of Labor, visit the USDOL Web site of the Office of Disability Employment Policy at http://www.dol.gov/odep.

IX. Appendices

The appendices are as follows:

Appendix A. Application for Federal Assistance, Form SF-424.

Appendix B. Budget Information Sheet, Form SF-424A.

Appendix C. Assurances and Certifications Signature Page.

(Appendices D and E are not applicable).

Appendix F. Survey on Ensuring Equal Opportunity for Applicants.

Detailed information and document locations:

Appendix A. Application for Federal Assistance, Form SF-424 (OMB No. 4040-0004).

Appendix B. Budget Information Sheet, Form SF-424A (OMB No. 0348-0044).

Both forms SF-424 and 424A can be obtained at the following Web address: http://apply.grants.gov/agency/FormLinks?family=7.

Appendix F. Survey on Ensuring Equal Opportunity for Applicants (OMB No. 1890-0014).

The Survey on Ensuring Equal Opportunity for Applicants form can be obtained at the following Web address: http://www.ed.gov/fund/grant/apply/appforms/surveyeo.pdf. (If you are viewing this in an electronic format and are receiving “page not found”, please cut and paste the URL into your browser window)

Appendix C. Assurances and Certifications Signature Page.

Certifications and Assurances

Assurances and Certifications Signature Page

The Department of Labor will not award a grant or agreement where the grantee/recipient has failed to accept the assurances and certifications contained in this section. By signing and returning this signature page, the grantee/recipient is providing the certifications set forth below:

A. Certification Regarding Lobbying, Debarment, Suspension, Other Responsibility Matters—Primary Covered Transactions and Certifications Regarding Drug-Free/Tobacco-Free Workplace,

B. Certification of Release of Information,

C. Assurances—Non-Construction Programs,

D. Applicant is not a 501(c)(4) organization.

Applicant Name and Legal Address:

If there is any reason why one of the assurances or certifications listed cannot be signed, please explain. Applicant need only submit and return this signature page with the grant application. All other instruction shall be kept on file by the applicant.

Signature of Authorized Certifying Official

Title

Applicant Organization

Date Submitted

Please Note: This signature page and any pertinent attachments which may be required by these assurances and certifications shall be attached to the applicant's Cost Proposal.

Signed at Washington, DC this 12th day of May, 2006.
Eric Vogt,
Grant Officer.

[FR Doc. 06-4669 Filed 5-18-06; 8:45 am]

BILLING CODE 4510-FK-P